DEPARTMENT OF JUSTICE

Notice of Lodging of Proposed Consent Decree Under the Clean Air Act

On August 14, 2017, the Department of Justice lodged a proposed Consent Decree (“Consent Decree”) with the United States District Court for the District of Connecticut in the lawsuit entitled United States v. City of Waterbury, CT and Synagro Northeast, LLC, Civil Action No. 2:17-cv-01377.

In a Complaint, the United States, on behalf of the U.S. Environmental Protection Agency (“EPA”), alleges that the City of Waterbury, Connecticut (“Waterbury”) and Synagro Northeast, LLC (“Synagro”) violated the Clean Air Act (the “Act”), 42 U.S.C. 7413, by violating: (1) The Solid Waste Combustion provisions in Section 129 of the Clean Air Act, 42 U.S.C. 7429, and (2) the Federal Plan Requirements for Sewage Sludge Incineration Units Constructed on or Before October 14, 2010, 40 CFR 62, subpart LLL (“Subpart LLL”). The proposed Consent Decree in this case, among other things, requires that Waterbury and Synagro bring the sewage sludge incineration unit located at the Waterbury Wastewater Treatment Plant into compliance with Subpart LLL, and pay a civil penalty of $104,000.

The publication of this notice opens a period for public comment on the proposed Consent Decree. Comments should be addressed to the Assistant Attorney General, Environment and Natural Resources Division, and should refer to United States v. City of Waterbury, CT and Synagro Northeast, LLC, D.J. Ref. No. 90-5-2-1-11647. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $10.75 (25 cents per page reproduction cost), payable to the United States Treasury.

Jeffrey Sands,
Assistant Chief, Environmental Enforcement Section, Environment & Natural Resources Division.

[FR Doc. 2017-17496 Filed 8-17-17; 8:45 am]

BILLING CODE 4410-15-P